DEPARTMENT OF THE INTERIOR

Fish and Wildlife Service

Receipt of a Permit Application for Incidental Take and Notice of Availability of an Environmental Assessment/Habitat Conservation Plan For Issuance of an Endangered Species Act Section 10(a)(1)(B) for the Cactus Ferruginous Pygmy-Owl

AGENCY: Fish and Wildlife Service, Interior.

ACTION: Notice of availability.

SUMMARY: Exeter LXI, L.L.C. (Applicant) has applied for an incidental take permit (TE-063647-0) pursuant to section 10(a) of the Endangered Species Act (Act). The requested permit would authorize the incidental take of the endangered cactus ferruginous pygmy-owl (Glaucidium brasilianiam cactorum), which would occur as a result of the construction and occupation of a proposed 103-acre residential development project (Skyranch) in Pima County, Arizona. A draft Environmental Assessment/Habitat Conservation Plan (EA/HCP) for the proposed development project has been prepared as required under section 10(a)(1)(B).

DATES: Written comments on the application should be received within 60 days of the date of this publication.

ADDRESSES: Persons wishing to review the application and draft EA/HCP may obtain a copy by writing to the Regional Director, U.S. Fish and Wildlife Service, P.O. Box 1306, Room 4102, Albuquerque, New Mexico 87103. Persons wishing to review the EA/HCP may obtain a copy by contacting Kim Hartwig, U.S. Fish and Wildlife Service, 110 S. Church Ave, Suite 3450, Tucson, Arizona 85701 (520/670-4617). Documents will be available for public inspection by written request, by appointment only, during normal business hours (8 a.m. to 4:30 p.m.) at the U.S. Fish and Wildlife Service, Tucson, Arizona. Written data or comments concerning the application and EA/HCP should be submitted to the Supervisor, U.S. Fish and Wildlife Service, 110 South Church Ave, Suite 3450, Tucson, Arizona 85701. Please refer to permit number TE-063647-0 when submitting comments.

FOR FURTHER INFORMATION CONTACT: Kim Hartwig, U.S. Fish and Wildlife Service, 110 S. Church Ave, Suite 3450, Tucson, Arizona 85701.

SUPPLEMENTARY INFORMATION: Section 9 of the Act prohibits the “taking” of endangered species such as the cactus ferruginous pygmy-owl. However, the Fish and Wildlife Service (Service), under limited circumstances, may issue permits to take endangered wildlife species incidental to, and not the purpose of, otherwise lawful activities. Regulations governing permits for endangered species are at 50 CFR 17.22.

Exeter LXI, L.L.C. plans to construct a residential development on 103-acres of the 515-acre Skyranch property. This action will eliminate 103 acres or less of cactus ferruginous pygmy-owl habitat. The Service and the Applicant have prepared a draft EA/HCP that outlines the measures necessary to minimize and mitigate to the maximum extent practicable the incidental take of the cactus ferruginous pygmy-owl. The Applicant proposes to compensate for the incidental take of the cactus ferruginous pygmy-owl by preserving 413 acres of the 515-acre Skyranch property as a Reserve, which will be buffered from development by development setbacks.

A determination of jeopardy or non-jeopardy to the species and a decision pursuant to the National Environmental Policy Act (NEPA) will not be made until at least 60 days from the date of publication of this notice. This notice is provided pursuant to section 10(c) of the Act and NEPA regulations (40 CFR 1506.6).

Geoffrey L. Haskett,
Regional Director, Region 2.

[FR Doc. 02-31566 Filed 12-13-02; 8:45 am]

BILLING CODE 4510-55-P